DEPARTMENT OF STATE

[Public Notice 5765]

Shipping Coordinating Committee Notice of Meeting

The Shipping Coordinating Committee (SHC) will conduct an open meeting at 9:30 a.m. on Wednesday, May 30, 2007, in Room 6103 of the United States Coast Guard Headquarters Building, 2100 Second Street, SW., Washington, DC, 20593-0001. The primary purpose of the meeting is to discuss the testing of voluntary guidelines to monitor carbon dioxide emissions from ships operating internationally.

The International Maritime Organization (IMO), a specialized agency of the United Nations that focuses on improving maritime safety and marine environmental protection, is considering the international regulation of greenhouse gas emissions from ships at its 56th session of the Marine Environment Protection Committee to be held at IMO Headquarters in London, England from July 9th to July 13th, 2007. The open meeting scheduled for Wednesday, May 30, 2007, will focus solely on the discussion of greenhouse gas emissions from ships and the voluntary guidelines developed by IMO to monitor carbon dioxide emissions from ships operating internationally in anticipation of the MEPC 56 meeting. There will be a separate open meeting scheduled for June 20, 2007, to consider all of the items on the agenda for the MEPC 56 meeting.

In this context, IMO has drafted voluntary guidelines to monitor CO2 emissions from ships operating internationally. These draft guidelines describe how to generate a CO2 “index” (CO2 emissions per unit of cargo and kilometer traveled) for each ship in a fleet. IMO member countries have been asked to test the draft guidelines, collect data on a ship's fuel consumed, distance sailed, and cargo carried over one year of operations; and to then apply the calculations in the guidelines to determine the CO2 index for ships. The draft guidelines' aim to help owners monitor and improve the fuel efficiency of their operations and allow comparisons between the performances of different ships of a certain type (for example: Tankers, cargo ships, or passenger ferries). IMO countries are engaged in a trial period for the guidelines which goes until 2009. Following the trial period, the guidelines will be reassessed, and if found useful, voluntarily implemented internationally.

The U.S. Government would greatly appreciate any assistance that U.S. ship owners may be willing to provide, on a strictly voluntary basis, in testing these guidelines and submitting the results of their testing to the Coast Guard. If shipowners were to test the guidelines, we recommend ship that owners:

1. Collect data on a ship's fuel consumed, distance sailed, and cargo carried over one year of operations; and

2. Apply the calculations in the guidelines to determine the CO2 index for each ship.

Members of the public are invited to attend the SHC meeting up to the seating capacity of the room. To facilitate the building security process, those who plan to attend should call or send an e-mail two days before the meeting to LT Kevin Ferrie, Kevin.B.Ferrie@uscg.mil.

We welcome any feedback on the guidelines, particularly if you have any difficulties, questions, or suggestions for improvement. Your assistance in testing the guidelines will help ensure that any views and concerns you have are taken into consideration in finalizing these voluntary guidelines and that they will be easy to use once they are finalized, which we anticipate to be in 2009.

The draft guidelines, as well as more specific information on how to test them, can be obtained by contacting the Coast Guard through the contact information below.

The public should also be aware that other countries have invited commercial fleets under their respective flags to test the draft guidelines. If members of the public would like data that has already been submitted, please contact the individual listed below for further information.

FOR FURTHER INFORMATION CONTACT: Mr. Wayne Lundy, Systems Engineering Division, Commandant (CG-3PSE-3), telephone 202-372-1379, or by e-mail at Wayne.M.Lundy@uscg.mil.

Dated: May 8, 2007.
Michael E. Tousley,
Executive Secretary, Shipping Coordinating Committee, Department of State.

[FR Doc. E7-9922 Filed 5-22-07; 8:45 am]

BILLING CODE 4710-09-P